DEPARTMENT OF THE INTERIOR

Fish and Wildlife Service

Availability of Final Comprehensive Conservation Plan for Seedskadee National Wildlife Refuge, Green River, WY

AGENCY: Fish and Wildlife Service, Interior.

ACTION: Notice of availability.

SUMMARY: The U.S. Fish and Wildlife Service announces that a Comprehensive Conservation Plan (CCP) and Summary for Seedskadee National Wildlife Refuge is available. This CCP, prepared pursuant to the National Wildlife Refuge System Improvement Act of 1997 and the National Environmental Policy Act of 1969, describes how the U.S. Fish and Wildlife Service intends to manage this Refuge for the next 15 years.

ADDRESSES: A copy of the Plan or Summary may be obtained by writing to U.S. Fish and Wildlife Service, Seedskadee National Wildlife Refuge, P.O. Box 700, Green River, WY 82935; or download from http://mountain-prairie.fws.gov/planning.

FOR FURTHER INFORMATION CONTACT: Carol Damberg, Project Leader, U.S. Fish and Wildlife Service, Seedskadee National Wildlife Refuge, P.O. Box 700, Green River, WY 82935. Phone 307-875-2187; fax 307-875-4425; or e-mail: carol_damberg@fws.gov.

SUPPLEMENTARY INFORMATION:

Background

Seedskadee National Wildlife Refuge (NWR), comprised of 26,382 acres, is long and narrow and is bisected throughout its length by the Green River, within the Upper Colorado River basin, in Sweetwater County, southwestern Wyoming. The Refuge is situated in a high desert plain where the native upland plant associations include sagebrush/grass, greasewood and shadscale, and bottomland plant associations include wet meadow riparian types with willows and cottonwoods dominating the overstory and riverine wetlands. Over 220 species, including some Federally listed species, of birds, mammals, reptiles, amphibians, and fishes utilize, occur at, or migrate through this Refuge. Seedskadee NWR was established in 1965 through the Colorado River Storage Project Act of 1956 and the principal purpose of the Refuge is to provide for the conservation, maintenance, and management of wildlife resources and its habitat including the development and improvement of such wildlife resources. Additionally, the Refuge is charged to protect the scenery, cultural resources, and other natural resources and provide for public use and enjoyment of compatible wildlife-dependent activities.

The availability of the Draft CCP and Environmental Assessment (EA) for 30-day public review and comment was announced in the Federal Register on October 31, 2001, in Volume 66, Number 211. The Draft CCP/EA identified and evaluated three alternatives for managing Seedskadee National Wildlife Refuge for the next 15 years. Alternative 1, the no action alternative, would have continued current management of the Refuge. Alternative 2 (preferred alternative) emphasizes restoration of riparian habitat functions and forest health, and restoration of historic wetland types within the Refuge. Alternative 3 would have maximized wildlife benefits by focusing on habitat protection and enhancement and de-emphasizing public use opportunities.

Based on this assessment and comments received, the preferred Alternative 2 was selected for implementation. The preferred alternative was selected because it best meets the purposes and goals of the Refuge, as well as the goals of the National Wildlife Refuge System. The preferred alternative will also benefit foraging raptors, marsh birds, migrating and nesting waterfowl, and neotropical migrants, as well as improvements in water quality from riparian habitat restoration. Modifications to existing vehicular routes will result in improved wildlife habitats and diversified visitor experiences. Cultural and historical resources will be interpreted and protected.

Dated: October 2, 2002.
Elliott Sutta,
Regional Director, Region 6, Denver, Colorado.

[FR Doc. 03-10335 Filed 4-25-03; 8:45 am]

BILLING CODE 4310-55-P